DEPARTMENT OF ENERGY

Federal Energy Regulatory Commission

Combined Notice of Filings #1

June 6, 2005.

Take notice that the Commission received the following electric rate filings.

Docket Numbers: ER01-389-002.

Applicants: Calumet Energy Team, LLC.

Description: Calmet Energy Team LLC submits its tariff revisions made in compliance with the 5/11/05 letter order under ER01-389.

Filed Date: 05/31/2005.

Accession Number: 20050602-0063.

Comment Date: 5 p.m. eastern time on Tuesday, June 21, 2005.

Docket Numbers: ER02-1632-002.

Applicants: Energy America LLC.

Description: Energy America, LLC submits its Triennial Market Power Review in support of its market-based rate authority under ER02-1632.

Filed Date: 05/31/2005.

Accession Number: 20050602-0028.

Comment Date: 5 p.m. eastern time on Tuesday, June 21, 2005.

Docket Numbers: ER03-563-051; EL04-02-009.

Applicants: Power Marketing Inc.

Description: Fourth Compliance Report of ISO New England Inc. pursuant to Order issued June 2, 2004, 107 FERC ¶ 61,240 (2004).

Filed Date: 05/31/2005.

Accession Number: 20050531-5066.

Comment Date: 5 p.m. eastern time on Tuesday, June 21, 2005.

Docket Numbers: ER03-1413-004; ER94-1691-000.

Applicants: Sempra Energy Trading Corp.

Description: Sempra Energy Trading Corp. submits a notice of non-material change in status in compliance reporting requirements of Order 652 under ER03-1413 et al.

Filed Date: 05/31/2005.

Accession Number: 20050602-0129.

Comment Date: 5 p.m. eastern time on Tuesday, June 21, 2005.

Docket Numbers: ER05-10-003.

Applicants: PJM Interconnection L.L.C.

Description: PJM Interconnection, LLC submits amendments to the PJM open Access Transmission Tariff and Amended and Restated Operating Agreement of PJM Interconnection, L.L.C. under ER05-10.

Filed Date: 05/31/2005.

Accession Number: 20050602-0026.

Comment Date: 5 p.m. eastern time on Tuesday, June 21, 2005.

Docket Numbers: ER05-1043-000.

Applicants: Florida Power Corporation.

Description: Florida Power Corp d/b/a Progress Energy Florida, Inc. submits a Network Integration Transmission Service Agreement and Network Operating Agreement with the City of Winter Park under ER05-1043.

Filed Date: 05/31/2005.

Accession Number: 20050602-0061.

Comment Date: 5 p.m. eastern time on Tuesday, June 21, 2005.

Docket Numbers: ER05-1044-000.

Applicants: ISO New England and Northeast Utilities Service Company.

Description: ISO New England Inc. and Northeast Utilities Service Company, on behalf of The Connecticut Light and Power Company, submit the executed Standard Large Generator Interconnection Agreement with Waterside Power, LLC under ER05-1044.

Filed Date: 05/31/2005.

Accession Number: 20050602-0091.

Comment Date: 5 p.m. eastern time on Tuesday, June 21, 2005.

Docket Numbers: ER05-1045-000.

Applicants: Virginia Electric and Power Company.

Description: Virginia Electric and Power Co d/b/a Dominion Virginia Power submits a revised long-term service agreement providing for sales of electric power and the resale of transmission rights with Town of Enfield, NC under ER05-1045.

Filed Date: 05/31/2005.

Accession Number: 20050602-0057.

Comment Date: 5 p.m. eastern time on Tuesday, June 21, 2005.

Docket Numbers: ER05-1046-000.

Applicants: Midwest Independent Transmission System Operator, Inc.

Description: Midwest Independent Transmission System Operator, Inc. submits an Interconnection & Operating Agreement among Cowell Wind Project, Midwest ISO and Northern States Power Company d/b/a Xcel Energy.

Filed Date: 05/31/2005.

Accession Number: 20050602-0058.

Comment Date: 5 p.m. eastern time on Tuesday, June 21, 2005.

Docket Numbers: ER05-1047-000.

Applicants: Midwest Independent Transmission System Operator, Inc.

Description: Midwest Independent Transmission System Operator, Inc. submits an Interconnection and Operating Agreement among East Ridge Transmission, LLC, Midwest ISO and Great River Energy.

Filed Date: 05/31/2005.

Accession Number: 20050602-0090.

Comment Date: 5 p.m. eastern time on Tuesday, June 21, 2005.

Docket Numbers: ER05-1048-000.

Applicants: Midwest Independent Transmission System Operator, Inc.

Description: Midwest Independent Transmission System Operator Inc. submits an Interconnection and Operating Agreement among Wolf Wind Transmission LLC, Midwest ISO and Great River Energy.

Filed Date: 05/31/2005.

Accession Number: 20050602-0089.

Comment Date: 5 p.m. eastern time on Tuesday, June 21, 2005.

Docket Numbers: ER05-1049-000.

Applicants: Union Electric Company d/b/a AmerenUE.

Description: Union Electric Co d/b/a AmerenUE submits certain amendments to the Interchange Agreement with Associated Electric Cooperative, Incorporated.

Filed Date: 05/31/2005.

Accession Number: 20050602-0036.

Comment Date: 5 p.m. eastern time on Tuesday, June 21, 2005.

Docket Numbers: ER05-1050-000.

Applicants: AmerGen Energy Company LLC.

Description: AmerGen Energy Co LLC submits a rate schedule and supporting cost data for a proposed Reactive Support and Voltage Control from Generation Sources Services pursuant to section 205 of the Federal Power Act under ER05-1050.

Filed Date: 05/31/2005.

Accession Number: 20050602-0037.

Comment Date: 5 p.m. eastern time on Tuesday, June 21, 2005.

Docket Numbers: ER05-1051-000.

Applicants: Westar Energy, Inc.

Description: Westar Energy Inc submits an unexecuted Form of Service Agreement for Ancillary Services and Distribution Facilities between Westar Energy, Inc., Kansas Power Pool and Southwest Power Pool, to become effective 5/1/05 under ER05-1051.

Filed Date: 05/31/2005.

Accession Number: 20050602-0038.

Comment Date: 5 p.m. eastern time on Tuesday, June 21, 2005.

Docket Numbers: ER05-1052-000.

Applicants: Southwest Power Pool, Inc.

Description: Southwest Power Pool, Inc submits an unexecuted Form of Service Agreement with Westar Energy, Inc and Kansas Power Pool, effective 5/1/05 under ER05-1052.

Filed Date: 05/31/2005.

Accession Number: 20050602-0035.

Comment Date: 5 p.m. eastern time on Tuesday, June 21, 2005.

Docket Numbers: ER05-1053-000.

Applicants: Virginia Electric and Power Company.

Description: Virginia Electric & Power Company on behalf of PJM Transmission Owners Agreement Administrative Committees submits changes to the PJM Transmission Owners Agreement amending section 5.4 of its agreement.

Filed Date: 05/31/2005.

Accession Number: 20050602-0033.

Comment Date: 5 p.m. eastern time on Tuesday, June 21, 2005.

Docket Numbers: ER05-1054-000.

Applicants: Eastern Landfill Gas, LLC.

Description: Application of Eastern Landfill Gas, LLC for blanket authorization, certain waivers, order approving rate schedule and expedited action under ER05-1054.

Filed Date: 05/31/2005.

Accession Number: 20050602-0034.

Comment Date: 5 p.m. eastern time on Tuesday, June 21, 2005.

Docket Numbers: ER05-1055-000.

Applicants: Maine Public Service Company.

Description: Maine Public Service Co submits Second Revised Sheet Nos. 205, 207 and 209 to FERC Electric Tariff, First Revised Volume 4, effective 6/1/05 under ER05-1055.

Filed Date: 05/31/2005.

Accession Number: 20050602-0130.

Comment Date: 5 p.m. eastern time on Tuesday, June 21, 2005.

Docket Numbers: ER05-1056-000.

Applicants: Chehalis Power Generating, L. P.

Description: Chehalis Power Generating, LP submits its initial Rate Schedule No. 2 for the provision of Reactive Supply and Voltage Control Service from Generation Sources Service from the Chehalis electric generating facility to Bonneville Power Administration to be effective 8/1/05.

Filed Date: 05/31/2005.

Accession Number: 20050602-0131.

Comment Date: 5 p.m. eastern time on Tuesday, June 21, 2005.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other and the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlinSupport@ferc.gov or call (866) 208-3676 (toll free). For TTY, call (202) 502-8659.

Linda Mitry,
Deputy Secretary.

[FR Doc. E5-3073 Filed 6-14-05; 8:45 am]

BILLING CODE 6717-01-P